DEPARTMENT OF JUSTICE

Antitrust Division

Notice Pursuant to the National Cooperative Research and Production Act of the National Cooperation Research and Production Act of 1993—National Committee for Clinical Laboratory Standards

Notice is hereby given that, on September 16, 2004, pursuant to section 6(a) of the National Cooperative Research and Production Act of 1993, 15 U.S.C. 4301 et seq. (“the Act”), National Committee for Clinical Laboratory Standards (“NCCLS”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: National Committee for Clinical Laboratory Standards, Wayne, PA. (On January 1, 2005 the organization's name will become: Clinical and Laboratory Standards Institute). The nature and scope of NCCLS's standards development activities are: to improve the quality of work performed by organizations concerned with health care services, medical testing, and clinical and other laboratory services. Examples include training verification; safety of healthcare workers; preanalytic specimen collection and handling; evaluation of analytical methods and devices; analytic procedures in clinical chemistry and toxicology, hematology, immunology and ligand assay, microbiology, and molecular methods; performance goals for internal quality control; point of service testing in acute and chronic care facilities; physician's office laboratory testing; cytologic specimen collection and cytoprepatory techniques; laboratory design; laboratory automation and informatics; and emergency response procedures.

Dorothy B. Fountain,
Deputy Director of Operations, Antitrust Division.

[FR Doc. 04-27068 Filed 12-9-04; 8:45 am]

BILLING CODE 4410-11-M